DEPARTMENT OF AGRICULTURE

Natural Resources Conservation Service

Urban Agriculture and Innovative Production Advisory Committee Meeting

AGENCY: Natural Resources Conservation Service, U.S. Department of Agriculture (USDA).

ACTION: Notice of public and virtual meetings.

SUMMARY: The Natural Resources Conservation Service (NRCS) will hold three public meetings for the Urban Agriculture and Innovative Production Advisory Committee (UAIPAC). UAIPAC will discuss proposed recommendations for the Secretary of Agriculture on the development of policies and outreach for urban, indoor, and other emerging agriculture production practices. UAIPAC is authorized under the Agriculture Improvement Act of 2018 (2018 Farm Bill), as amended, and operates in compliance with the Federal Advisory Committee Act (FACA), as amended.

DATES:

Meetings: The UAIPAC meetings will be held on:

• Wednesday, September 10, 2025, from 2:00 p.m. to 4:00 p.m. Eastern Daylight Time (EDT).

• Wednesday, September 17, 2025, from 2:00 p.m. to 4:00 p.m. EDT.

• Wednesday, September 24, 2025, from 2:00 p.m. to 4:00 p.m. EDT.

Written Comments: Written comments will be accepted until Tuesday, September 30, 2025, at 11:59 p.m. EDT.

Oral Comments: Registration to provide oral comments during the meeting will be open until Monday, September 8, 2025, at 11:59 p.m. EDT.

ADDRESSES:

Meeting Location: All meetings will be held virtually via Zoom webinar. Pre-registration is required to attend the UAIPAC meetings and access information will be provided to registered individuals via email. Registration details can be found at: https://www.usda.gov/partnerships/federal-advisory-committee-urban-ag.

Written Comments: We invite you to send comments in response to this notice via email to UrbanAgricultureFederalAdvisoryCommittee@usda.gov.

Oral Comments: Only pre-registered individuals will be permitted to provide oral comments. Instructions to register and participate can be found at: https://www.usda.gov/partnerships/federal-advisory-committee-urban-ag.

FOR FURTHER INFORMATION CONTACT: Markus Holliday; Acting Designated Federal Officer; telephone: (301) 974-1287; email: UrbanAgricultureFederalAdvisoryCommittee@usda.gov.

Individuals who require alternative means for communication may contact the USDA TARGET Center at (202) 720-2600 (voice and text telephone (TTY)) or dial 711 for Telecommunications Relay service (both voice and text telephone users can initiate this call from any telephone). Additionally, program information may be made available in languages other than English.

SUPPLEMENTARY INFORMATION:

UAIPAC Purpose

The Federal Advisory Committee for Urban Agriculture and Innovative Production is one of several ways that USDA is extending support and building frameworks to support urban agriculture and innovative production. Section 222 of the Department of Agriculture Reorganization Act of 1994, as amended by section 12302 of the 2018 Farm Bill (7 U.S.C. 6923; Pub. L. 115-334), directed the Secretary to establish an “Urban Agriculture and Innovative Production Advisory Committee” to advise the Secretary of Agriculture on any aspect of section 222, including the development of policies and outreach for urban, indoor, and other emerging agricultural production practices, as well as identify any barriers to urban agriculture. UAIPAC will host public meetings to deliberate on recommendations for the Secretary of Agriculture. These recommendations provide advice to the Secretary on supporting urban agriculture and innovative production through USDA's programs and services.

Meeting Agenda

The agenda items may include, but are not limited to, welcome and introductions; administrative matters; presentations from the UAIPAC or USDA staff; and deliberations for proposed recommendations and plans. The USDA UAIPAC website (https://www.usda.gov/partnerships/federal-advisory-committee-urban-ag) will be updated with the final agenda at least 24 hours before the meeting.

Written and Oral Comments

Comments should address specific topics about urban agriculture and innovative production. Written comments will be accepted via email (UrbanAgricultureFederalAdvisoryCommittee@usda.gov) until 11:59 p.m. EDT on Tuesday, September 30, 2025. Requests made after that date may be considered, but it may not be possible to fulfill them.

Only pre-registered individuals may provide oral comments. Instructions to register and participate in the meeting can be found at: https://www.usda.gov/partnerships/federal-advisory-committee-urban-ag.

Meeting Materials

All written comments received by the deadline specified above will be compiled for UAIPAC review. Duplicate comments from multiple individuals will appear as one comment with a note that multiple copies of the comment were received. Please visit https://www.usda.gov/partnerships/federal-advisory-committee-urban-ag to view the agenda and minutes from each meeting.

Meeting Accommodations

If needed, please request reasonable accommodations by contacting the person listed under FOR FURTHER INFORMATION CONTACT section. Determinations for reasonable accommodation will be made on a case-by-case basis.

This notice of meeting is given under section 10 of the Federal Advisory Committee Act (5 U.S.C. 10).

Equal opportunity practices, in accordance with USDA policies, will be followed in all membership appointments to the committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: August 18, 2025.
Cikena Reid,
USDA Committee Management Officer.

[FR Doc. 2025-16309 Filed 8-25-25; 8:45 am]

BILLING CODE 3410-16-P